DEPARTMENT OF HEALTH AND HUMAN SERVICES

Centers for Disease Control and Prevention

[30Day-15-15GD]

Withdrawal of Information Collection

AGENCY: National Institute for Occupational Safety and Health (NIOSH), Centers for Disease Control and Prevention.

In compliance with the requirement of Section 3506(c)(2)(A) of the Paperwork Reduction Act of 1995.

[FR Doc. 2015-06655 Filed 3-23-15; 8:45 a.m.]

Subject: Emergency Self Escape for Coal Miners.

Action: Notice withdrawal.

SUMMARY: The Centers for Disease Control and Prevention requests withdrawal from publication the 30-Day Federal Register Notice (FRN) 15-15GD concerning the Emergency Self Escape for Coal Miners ([FR Doc. 2015-06655 Filed 3-23-15; 8:45 a.m.]), which was submitted on March 19, 2015 for public inspection in the Federal Register.

CDC published the notice as a Proposed Data Collections Submitted for Public Comment and Recommendations, when, in fact, the notice should have received publication as Agency Forms Undergoing Paperwork Reduction Act Review.

DATES: The 30-day FRN published on [03/24/15] at [Vol. 80, No. 56 Page 15618-15619] is withdrawn as of [03/24/15].

FOR FURTHER INFORMATION CONTACT: (404) 639-7570 or send comments to CDC Leroy Richardson, 1600 Clifton Road, MS D-74, Atlanta, GA 30333 or send an email to omb@cdc.gov.

SUPPLEMENTARY INFORMATION: N/A.

Leroy A. Richardson,
Chief, Information Collection Review Office, Office of Scientific Integrity, Office of the Associate Director for Science, Office of the Director, Centers for Disease Control and Prevention.

[FR Doc. 2015-07039 Filed 3-26-15; 8:45 am]

BILLING CODE 4163-18-P